DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Times and Dates:

9:00 a.m.-5:30 p.m. EST, March 27, 2014

8:00 a.m.-12:00 p.m. EST, March 28, 2014

Place: Centers for Disease Control and Prevention, 4770 Buford Highway, Chamblee Building 107 1A/1B/1C, Atlanta, Georgia 30341

Status: The meeting is open to the public, for in-person or distance participation, limited only by the space and phone lines available. For offsite participation, call (1) toll free: 888-989-8135 Participant passcode 4798; or (2) by Net Conference at URL https://www.mymeetings.com/nc/join/Conference number: PW4485905 Audience passcode: 4798; or (3) join the meeting directly at: https://www.mymeetings.com/nc/join.php?i=PW4485905&p=4798&t=c.

Participants outside of the U.S. may join by calling toll free 1-415-228-4965 Participant passcode: 4798.

Purpose: The committee provides advice and guidance to the Secretary, HHS; the Assistant Secretary for Health; and the Director, CDC, regarding the formative research, development, implementation and evaluation of evidence-based activities designed to prevent breast cancer (particularly among those at heightened risk) and promotes the early detection and support of young women who develop the disease. The advice provided by the Committee will assist in ensuring scientific quality, timeliness, utility, and dissemination of credible appropriate messages and resource materials.

Matters for Discussion: The agenda will include discussions on the current and emerging topics related to breast cancer in young women. These may include applied research, public health communication, approaches to increase awareness around topics such as breast cancer risk, breast health, symptoms, diagnosis, and treatment of breast cancer in young women.

Agenda items are subject to change as priorities dictate. Online Pre-Registration Required: To expedite the security clearance process required for entry into a Federal building, all ACBCYW attendees must register for the meeting online at least seven days in advance at http://www.cdc.gov/cancer/breast/what_cdc_is_doing/meetings.htm.

Please complete all the required fields before submitting your registration and submit no later than March 19, 2014. Each meeting day, attendees must provide CDC staff and security with driver's license, state issued ID, or passport.

Contact Person for More Information: Temeika L. Fairley, Ph.D., Designated Federal Officer, National Center for Chronic Disease Prevention and Health Promotion, CDC, 5770 Buford Highway, NE., Mailstop K52, Atlanta, Georgia 30341, Telephone (770) 488-4518, Fax (770) 488-4760.

The Director, Management Analysis and Services Office, has been delegated the authority to sign Federal Register notices pertaining to announcements of meetings and other committee management activities, for both the Centers for Disease Control and Prevention, and Agency for Toxic Substances and Disease Registry.

Catherine Ramadei,
Acting Director, Management Analysis and Services Office, Centers for Disease Control and Prevention.

[FR Doc. 2014-04084 Filed 2-25-14; 8:45 am]

BILLING CODE 4163-18-P